DEPARTMENT OF JUSTICE

Notice of Lodging of Proposed Consent Decree Under the Comprehensive Environmental Response, Compensation, and Liability Act and Formerly Utilized Sites Remedial Action Program

On April 23, 2025, the Department of Justice lodged a proposed Consent Decree with the United States District Court for the Eastern District of Missouri in the lawsuit entitled United States v. Jarboe Realty & Investment, Co., Civil Action No. 25-cv-565.

The United States filed this lawsuit under the Comprehensive Environmental Response, Compensation, and Liability Act (CERCLA) and the Formerly Utilized Sites Remedial Action Program (FUSRAP) for response costs incurred, and to be incurred, by the United States Army Corps of Engineers (the Corps) and Department of Energy for their work removing contamination from uranium ore or residue processing materials at certain portions of the North St. Louis County Superfund Site in Missouri. Under the proposed Consent Decree, Jarboe Realty & Investment Co. (Jarboe Realty) will pay $769,722.00 in past and future response costs associated with the above activities. Jarboe Realty also agrees to provide the Corps with access to its property and to cooperate with the Corps' efforts to secure and ensure compliance with any necessary institutional controls at the property. In return, the proposed Consent Decree provides Jarboe Realty with a covenant not to sue or take administrative action under Section 107(a) of CERCLA for any costs associated with the above activities at the North St. Louis County Superfund Site, as well as contribution protection under Section 113(f)(2) of CERCLA.

The publication of this notice opens a period for public comment on the proposed Consent Decree. Comments should be addressed to the Assistant Attorney General, Environment and Natural Resources Division, and should refer to United States v. Jarboe Realty & Investment Co., D.J. Ref. No. 90-11-2-08259/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. If you require assistance accessing the proposed Consent Decree, you may request assistance by email or by mail to the addresses provided above for submitting comments.

Kathryn C. Macdonald,
Assistant Section Chief, Environmental Enforcement Section, Environment and Natural Resources Division.

[FR Doc. 2025-07322 Filed 4-28-25; 8:45 am]

BILLING CODE 4410-15-P